DEPARTMENT OF COMMERCE

National Oceanic and Atmospheric Administration

[I.D. 051002E]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Groundfish Advisory Panel in May 2002. Recommendations from the committee will be brought to the full Council for formal consideration and action, if appropriate.

DATES: The meeting will held on Friday, May 31, 2002, at 9:30 a.m.

ADDRESSES: The meeting will be held at the Sheraton Ferncroft, 50 Ferncroft Road, Danvers, MA 01923; telephone: (978) 777-2500.

Council address: New England Fishery Management Council, 50 Water Street, Newburyport, MA 01950.

FOR FURTHER INFORMATION CONTACT: Paul J. Howard, Executive Director, New England Fishery Management Council; (978) 465-0492.

SUPPLEMENTARY INFORMATION: The Groundfish Advisory Committee will meet to review the final report of the Council's Capacity Committee. This report suggests alternatives for reducing fishing capacity in the groundfish fleet. The Advisors have been asked to comment on the proposed measures, including whether they will make rationale business sense for those vessel owners who may choose to take advantage of the alternatives. The Advisors will develop recommendations which will be reported to the Groundfish Committee and the full Council at a later date. The Advisory Panel may also address alternatives under development for Amendment 13 to the Northeast Multispecies Fishery Management Plan (FMP). Any recommendations of the Panel will be considered by the Groundfish Committee at a future date.Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 13, 2002.
Richard W. Surdi,
Acting Director, Office of Sustainable Fisheries, National Marine Fisheries Service.

[FR Doc. 02-12474 Filed 5-16-02; 8:45 am]

BILLING CODE 3510-22-S